SECURITIES AND EXCHANGE COMMISSION

[Release No. 34-58776; File No. SR-BATS-2008-007]

Self-Regulatory Organizations; BATS Exchange, Inc.; Notice of Filing and Immediate Effectiveness of Proposed Rule Change To Amend BATS Rule 11.13, Entitled “Order Execution”

October 14, 2008.

Correction

In notice document E8-25388 beginning on page 63529 in the issue of Friday, October 24, 2008, make the following correction:

On page 63531, in the first column, in the last line from the bottom, “November 13, 2008” should read “November 14, 2008”.

[FR Doc. Z8-25388 Filed 10-30-08; 8:45 am]

BILLING CODE 1505-01-D